DEPARTMENT OF DEFENSE

Department of the Army

Notice of Availability (NOA) of the Final Environmental Impact Statement (FEIS) for Transformation of U.S. Army Alaska (USARAK) at Forts Wainwright and Richardson, AK

AGENCY: Department of the Army, DoD.

ACTION: Notice of availability.

SUMMARY: The Department of the Army announces the availability of the FEIS to assess the potential impact of transformation of the 172nd Infantry Brigade (Separate) to a Stryker Brigade Combat Team (SBCT). The proposed action would affect changes to force structure and changes to ranges, facilities, and infrastructure designed to meet objectives of Army transformation in Alaska. Proposed locations for changes include Fort Wainwright (FWA), Fort Richardson (FRA), and outlying training areas (e.g., Gerstle River Training Area and Black Rapids Training Site). Proposed areas of activity changes on FWA would include cantonment areas, Tanana Flats Training Area, Yukon Training Area, and Donnelly Training Area (areas which were part of the former Fort Greely).

DATES: The waiting period for the FEIS will end 30 days after publication of the Notice of Availability in the Federal Register by the U.S. environmental Protection Agency.

ADDRESSES: If you have questions regarding the FEIS, or to request a copy of the document, please contact: Mr. Kevin Gardner, Directorate of Public Works, 730 Quartermaster Rod, Attention: APVR-RPW-GS (Gardner), Fort Richardson, AK 99505-6500; or Mr. Calvin Bagley, Center for Environmental Management of Military Lands (CEMML), Colorado State University, Fort Collins, CO 80523-1490.

FOR FURTHER INFORMATION CONTACT: Mr. Kevin Gardner at (907) 384-3331; by facsimile at (907) 384-3028; by e-mail at kevin.gardner@richardson.army.mil; or Mr. Calvin Bagley at (970) 491-3324; by facsimile at (970) 491-2713; by e-mail at cbagley@cemml.colostate.edu. The following Web site contains the FEIS and additional information: http://www.cemml.colostate.edu/alaskaeis.

SUPPLEMENTARY INFORMATION: The proposed action would alter various activities on military and training lands in Alaska. The range of proposed activities include (1) Stationing of forces within USARAK to achieve emission requirements; (2) construction, renovation, and demolition activities; (3) training to achieve and maintain readiness to perform assigned missions; (4) fielding of weapons systems and equipment (to include the Stryker (a light armored vehicle) and the Shadow (an unmanned aerial vehicle)); (5) deployment of forces and equipment and specific deployment training activities; and (6) institutional matters to include entire range of day-to-day management and operational activities not otherwise accounted for in other activity categories.

The FEIS analyzed the following three alternative courses of action with respect to the transformation of the 172nd Infantry Brigade (Separate) into an SBCT or USARAK: (1) Alternative 1, No Action Alternative—no transformation activities would occur and the existing 172nd Infantry Brigade (Separate) mission would continue; (2) Alternative 3, Transformation of the 172nd Infantry Brigade (Separate) with New Infrastructure Alternative—transform the 172nd Infantry Brigade (Separate) except for the 1-501st Parachute Infantry Regiment (PIR), into an SBCT and construct five new SBCT-required facilities; and (3) Alternative 4, Transformation of the 172nd Infantry Brigade (Separate) with New Infrastructure and an Airborne Task Force Alternative (Army's preferred alternative)—transform the 172nd Infantry Brigade (Separate), except for the 1-501st PIR, into an SBCT and construct five new SBCT-required facilities. Under Alternative 4, the 1-501st PIR would be assigned to USARAK and would expand to an Airborne Task Force.

The Department of the Army prepared a Final Programmatic EIS (PEIS) for Army Transformation in 2002. The corresponding Record of Decision (ROD) declared the Army's decision to undertake a program of transformation and identified three brigades and an armored cavalry regiment for transformation into a Stryker Force during the next five to ten years. The 172nd Infantry Brigade (Separate), Forts Wainwright and Richardson, Alaska, were selected in the PEIS to transform into an SBCT.

Copies of the FEIS are available at the following libraries: Z.J. Loussac Public Library, 3600 Denali Street, Anchorage; Chugiak/Eagle River Public Library, 12400 Old Glenn Highway, Eagle River; Noel Wien Public Library, 1215 Cowles Street, Fairbanks; and the Delta Junction Public Library, Deborah Street, Delta Junction.

Dated: April 14, 2004.
Richard E. Newsome,
Assistant for Restoration, (Environment, Safety and Occupational Health) OASA (I&E).

[FR Doc. 04-8988 Filed 4-20-04; 8:45 am]

BILLING CODE 3710-08-M